DEPARTMENT OF TRANSPORTATION

Office of the Secretary

14 CFR Chs. I-III

23 CFR Chs. I-III

33 CFR Chs. I and IV

46 CFR Chs. I-III

48 CFR Ch. 12

49 CFR Subtitle A, Chs. I-VI, and Chs. X-XII

[DOT-OST-1999-5129]

Department Regulatory and Deregulatory Agenda; Semiannual Summary

AGENCY: Office of the Secretary, DOT.

ACTION: Unified Agenda of Federal Regulatory and Deregulatory Actions (Regulatory Agenda).

SUMMARY: The Regulatory Agenda is a semiannual summary of all current and projected rulemakings, reviews of existing regulations, and completed actions of the Department of Transportation. The Agenda provides the public information about the Department of Transportation's planned regulatory activity for the next 12 months. This information enables the public to participate in the Department's regulatory process. The public is encouraged to submit comments on any aspect of this Agenda.

FOR FURTHER INFORMATION CONTACT:

General

Please direct all general comments and inquiries on the Agenda to Daniel Cohen, Assistant General Counsel for Regulation, Office of the General Counsel, Department of Transportation, 1200 New Jersey Avenue SE, Washington, DC 20590; (202) 366-4702.

Specific

Please direct all comments and inquiries relative to specific items in the Agenda to the individual listed for the regulation or the general rulemaking contact person for the operating administration in Appendix B.

Table of Contents

Supplementary Information

Background

Significant/Priority Rulemakings

Explanation of Information on the Agenda

Request for Comments

Purpose

Appendix A—Instructions for Obtaining Copies of Regulatory Documents

Appendix B—General Rulemaking Contact Persons

Appendix C—Public Rulemaking Dockets

Appendix D—Review Plans for Section 610 and Other Requirements

SUPPLEMENTARY INFORMATION:

Background

The U.S. Department of Transportation (Department or DOT) issues regulations to ensure that the United States transportation system is safe, efficient, and inclusive, and to address urgent challenges facing both the transportation system and the Nation, including, the creation of good jobs, equity, consumer protection, and climate change. These challenges are addressed, in part, by encouraging innovation among all the transportation modes. And such innovation, in turn, leads to a need for Departmental regulations that keep pace with technological developments and approaches that reflect DOT's top priorities.

To achieve these goals and priorities in accordance with Executive Order 12866, “Regulatory Planning and Review,” (58 FR 51735; Oct. 4, 1993), the Department prepares a semiannual Agenda. The Agenda summarizes all current and projected rulemakings, reviews of existing regulations, and completed actions of the Department. These are matters on which action has begun or is projected to begin during the next 12 months or for which action has been completed since the publication of the last Agenda in the fall of 2021.

Earlier this year, the Department issued the National Roadway Safety Strategy, which outlines the Department's comprehensive plan to significantly reduce serious injuries and deaths on our Nation's highways, roads, and streets. This is the first step in the ambitious long-term goal of reaching zero roadway fatalities. The Department is currently working on a number of rulemakings to help achieve this goal. For example, NHTSA is working to facilitate the deployment of new technology, such as automatic emergency braking systems, in certain vehicles to improve the safety of our Nation's roads.

The Department is also moving to rapidly implement the provisions of the Bipartisan Infrastructure Law (BIL).¹ For example, FHWA is currently working on a BIL-required rulemaking to establish minimum standards and requirements for the implementation of a program that will result in a national network of 500,000 electric vehicle charging stations by 2030. Further, FTA is working on a rulemaking, prescribed by BIL, that would require recipients of certain FTA funds serving large, urbanized areas to add a risk reduction program to their agency safety plans.

¹ Infrastructure Investment and Jobs Act, Public Law 117-58 (2021).

In response to Executive Orders 13990 and 14037, which direct the Department to consider vehicle emissions as a means of addressing climate change, the Department is working on rulemakings such as a NHTSA rule to limit emissions from trucks and heavy-duty vehicles. This rulemaking is in addition to other recently-completed NHTSA rules that, in aggregate, establish more stringent vehicle emission limits. Similarly, PHMSA is preparing to enhance requirements for detecting and repairing leaks on new and existing natural gas distribution, gas transmission, and gas gathering pipelines.

The Department is also developing rules increasing access to our transportation system for individuals with disabilities and thereby advancing equity in transportation. For example, OST is working on regulations that would make it easier for individuals with disabilities to use the lavatory in an aircraft during flight. In addition, OST is also developing a rulemaking to enhance the safety of air travel for individuals who use wheelchairs and rely on the physical assistance of airline personnel or contractors.

In response to Executive Order 14036, which requires the Department to promote competition and increase airline transparency, OST is working on several consumer protection regulations, such as a rule that would amend DOT's aviation consumer protection program to ensure that, at the time of ticket purchase, consumers have ancillary fee information, including baggage and change fees.

Explanation of Information in the Agenda

An Office of Management and Budget memorandum, dated March 3, 2022, establishes the format for this Agenda.

First, the Agenda is divided by initiating office. Then, the Agenda is divided into five categories: (1) prerule stage; (2) proposed rule stage; (3) final rule stage; (4) long-term actions; and (5) completed actions. For each entry, the Agenda provides the following information: (1) its “significance”; (2) a short, descriptive title; (3) its legal basis; (4) the related regulatory citation in the Code of Federal Regulations; (5) any legal deadline and, if so, for what action (e.g., NPRM, final rule); (6) an abstract; (7) a timetable, including the earliest expected date for when a rulemaking document may publish; (8) whether the rulemaking will affect small entities and/or levels of Government and, if so, which categories; (9) whether a Regulatory Flexibility Act (RFA) analysis is required (for rules that would have a significant economic impact on a substantial number of small entities); (10) a listing of any analyses an office will prepare or has prepared for the action (with minor exceptions, DOT requires an economic analysis for all its rulemakings); (11) an agency contact office or official who can provide further information; (12) a Regulation Identifier Number (RIN) assigned to identify an individual rulemaking in the Agenda and facilitate tracing further action on the issue; (13) whether the action is subject to the Unfunded Mandates Reform Act; (14) whether the action is subject to the Energy Act; and (15) whether the action is major under the congressional review provisions of the Small Business Regulatory Enforcement Fairness Act.

To keep the operational requirements, current for nonsignificant regulations issued routinely and frequently as a part of an established body of technical requirements (such as the Federal Aviation Administration's Airspace Rules), we only include the general category of the regulations, the identity of a contact office or official, and an indication of the expected number of regulations; we do not list individual regulations.

In the “Timetable” column, we use abbreviations to indicate the documents being considered. ANPRM stands for Advance Notice of Proposed Rulemaking, SNPRM for Supplemental Notice of Proposed Rulemaking, and NPRM for Notice of Proposed Rulemaking. Listing a future date in this column does not mean we have decided to issue a document; it is the earliest date on which a rulemaking document may publish. In addition, these dates are based on current schedules. Information received after the issuance of this Agenda could result in a decision not to take regulatory action or in changes to proposed publication dates. For example, the need for further evaluation could result in a later publication date; evidence of a greater need for the regulation could result in an earlier publication date.

Finally, a dot (•) preceding an entry indicates that the entry appears in the Agenda for the first time.

The internet is the basic means for disseminating the Unified Agenda. The complete Unified Agenda is available online at www.reginfo.gov in a format that offers users a greatly enhanced ability to obtain information from the Agenda database. However, a portion of the Agenda is published in the Federal Register because the Regulatory Flexibility Act (5 U.S.C. 602) mandates publication for the regulatory flexibility agenda.

Accordingly, DOT's printed Agenda entries include only:

1. The agency's Agenda preamble.

2. Rules that are in the agency's regulatory flexibility agenda, in accordance with the Regulatory Flexibility Act, because they are likely to have a significant economic impact on a substantial number of small entities; and

3. Any rules that the agency has identified for periodic review under section 610 of the Regulatory Flexibility Act.

Printing of these entries is limited to fields that contain information required by the Regulatory Flexibility Act's Agenda requirements. These elements are: Sequence Number; Title; Section 610 Review, if applicable; Legal Authority; Abstract; Timetable; Regulatory Flexibility Analysis Required; Agency Contact; and Regulation Identifier Number (RIN). Additional information (for detailed list, see section heading “Explanation of Information on the Agenda”) on these entries is available in the Unified Agenda published on the internet.

Request for Comments

General

DOT's Agenda is intended primarily for the use of the public. Since its inception, the Department has made modifications and refinements that provide the public with more helpful information, as well as making the Agenda easier to use. We would like you, the public, to make suggestions or comments on how the Agenda could be further improved.

Regulatory Flexibility Act

The Department is interested in obtaining information on requirements that have a “significant economic impact on a substantial number of small entities” and, therefore, must be reviewed under the Regulatory Flexibility Act. If you have any suggested regulations, please submit them to the Department, along with your explanation of why they should be reviewed.

In accordance with the Regulatory Flexibility Act, comments are specifically invited on regulations that we have targeted for review under section 610 of the Act. The phrase (sec. 610 Review) appears at the end of the title for these reviews. Please see appendix D for the Department's section 610 review plans.

Consultation With State, Local, and Tribal Governments

Executive Orders 13132 and 13175 require the Department to develop a process to ensure “meaningful and timely input” by State, local, and Tribal officials in the development of regulatory policies that have federalism or tribal implications. These policies are defined in the Executive orders to include regulations that have “substantial direct effects” on States or Indian Tribes, on the relationship between the Federal Government and them, or on the distribution of power and responsibilities between the Federal Government and various levels of Government or Indian tribes. Therefore, we encourage State and local Governments or Indian Tribes to provide us with information about how the Department's rulemakings impact them.

Purpose

The Department is publishing this regulatory Agenda in the Federal Register to share with interested members of the public the Department's preliminary expectations regarding its future regulatory actions. This should enable the public to be more aware of the Department's regulatory activity and should result in more effective public participation. This publication in the Federal Register does not impose any binding obligation on the Department or any of the offices within the Department about any specific item on the Agenda. Regulatory action, in addition to the items listed, is not precluded.

Dated: June 23, 2022.
Peter Paul Montgomery Buttigieg,
Secretary of Transportation.

Office of the Secretary—Long-Term Actions
Sequence No. | Title | Regulation Identifier No.
152 | + Air Transportation Consumer Protection Requirements for Ticket Agents (Section 610 Review) | 2105-AE57
+ DOT-designated significant regulation.

Federal Aviation Administration—Proposed Rule Stage
Sequence No. | Title | Regulation Identifier No.
153 | Requirements to File Notice of Construction of Meteorological Evaluation Towers and Other Renewable Energy Projects (Section 610 Review) | 2120-AK77

Federal Aviation Administration—Final Rule Stage
Sequence No. | Title | Regulation Identifier No.
154 | + Airport Safety Management System | 2120-AJ38
155 | + Registration and Marking Requirements for Small Unmanned Aircraft | 2120-AK82
+ DOT-designated significant regulation.

Federal Aviation Administration—Long-Term Actions
Sequence No. | Title | Regulation Identifier No.
156 | + Regulation Of Flight Operations Conducted By Alaska Guide Pilots | 2120-AJ78
157 | + Drug and Alcohol Testing of Certain Maintenance Provider Employees Located Outside of the United States | 2120-AK09
158 | + Applying the Flight, Duty, and Rest Requirements to Ferry Flights That Follow Commuter or On-Demand Operations (FAA Reauthorization) | 2120-AK26
159 | + Aircraft Registration and Airmen Certification Fees | 2120-AK37
160 | + Helicopter Air Ambulance Pilot Training and Operational Requirements (HAA II) (FAA Reauthorization) | 2120-AK57
+ DOT-designated significant regulation.

Federal Motor Carrier Safety Administration—Proposed Rule Stage
Sequence No. | Title | Regulation Identifier No.
161 | Self-Insurance Program Cost Recovery (Section 610 Review) | 2126-AC58

Federal Motor Carrier Safety Administration—Long-Term Actions
Sequence No. | Title | Regulation Identifier No.
162 | + Safety Monitoring System and Compliance Initiative for Mexico-Domiciled Motor Carriers Operating in the United States | 2126-AA35
+ DOT-designated significant regulation.

Federal Railroad Administration—Proposed Rule Stage
Sequence No. | Title | Regulation Identifier No.
163 | + Train Crew Staffing | 2130-AC88
+ DOT-designated significant regulation.

Saint Lawrence Seaway Development Corporation—Final Rule Stage
Sequence No. | Title | Regulation Identifier No.
164 | Seaway Regulations and Rules: Periodic Update, Various Categories (Rulemaking Resulting From a Section 610 Review) | 2135-AA51
165 | Tariff of Tolls (Rulemaking Resulting From a Section 610 Review) | 2135-AA52

Pipeline and Hazardous Materials Safety Administration—Proposed Rule Stage
Sequence No. | Title | Regulation Identifier No.
166 | + Pipeline Safety: Gas Pipeline Leak Detection and Repair | 2137-AF51
167 | + Pipeline Safety: Pipeline Operational Status | 2137-AF52
168 | + Pipeline Safety: Safety of Gas Distribution Pipelines | 2137-AF53
+ DOT-designated significant regulation.

Pipeline and Hazardous Materials Safety Administration—Final Rule Stage
Sequence No. | Title | Regulation Identifier No.
169 | + Pipeline Safety: Amendments to Parts 192 and 195 to Require Valve Installation and Minimum Rupture Detection Standards | 2137-AF06
170 | + Hazardous Materials: Enhanced Safety Provisions for Lithium Batteries Transported by Aircraft (FAA Reauthorization Act of 2018) | 2137-AF20
+ DOT-designated significant regulation.

DEPARTMENT OF TRANSPORTATION (DOT)

Office of the Secretary (OST)

Long-Term Actions

152. + Air Transportation Consumer Protection Requirements for Ticket Agents (Section 610 Review) [2105-AE57]

Legal Authority: 49 U.S.C. 41712; 49 U.S.C. 42301 note prec

Abstract: This rulemaking would address a number of proposals to enhance protections for air travelers and to improve the air travel environment. Specifically, this rulemaking would enhance airline passenger protections by addressing whether to codify in regulation a definition of the term “ticket agent.” The rulemaking would also consider whether to require large travel agents to adopt minimum customer service standards and prohibit the unfair and deceptive practice of post-purchase price increases. These issues, previously part of a rulemaking known as Airline Pricing Transparency and Other Consumer Protection Issues, (2105-AE11) have been separated into this proceeding.

Timetable: Next Action Undetermined.

Regulatory Flexibility Analysis Required: No.

Agency Contact: Blane A. Workie, Assistant General Counsel, Department of Transportation, Office of the Secretary, 1200 New Jersey Avenue SE, Washington, DC 20590, Phone: 202 366-9342, Fax: 202 366-7153, Email: blane.workie@ost.dot.gov.

RIN: 2105-AE57

DEPARTMENT OF TRANSPORTATION (DOT)

Federal Aviation Administration (FAA)

Proposed Rule Stage

153. Requirements To File Notice of Construction of Meteorological Evaluation Towers and Other Renewable Energy Projects (Section 610 Review) [2120-AK77]

Legal Authority: 49 U.S.C. 40103

Abstract: This rulemaking would add specific requirements for proponents who wish to construct meteorological evaluation towers at a height of 50 feet above ground level (AGL) up to 200 feet AGL to file notice of construction with the FAA. This rule also requires sponsors of wind turbines to provide certain specific data when filing notice of construction with the FAA. This rulemaking is a statutory mandate under section 2110 of the FAA Extension, Safety, and Security Act of 2016 (Pub. L. 114-190).

Timetable:

Action | Date | FR Cite
NPRM | 04/00/23

Regulatory Flexibility Analysis Required: No.

Agency Contact: Brian Konie, Air Traffic Service, Department of Transportation, Federal Aviation Administration, 800 Independence Avenue SW, Washington, DC 20591, Phone: 202 267-0745, Email: brian.konie@faa.gov.

RIN: 2120-AK77

DEPARTMENT OF TRANSPORTATION (DOT)

Federal Aviation Administration (FAA)

Final Rule Stage

154. + Airport Safety Management System [2120-AJ38]

Legal Authority: 49 U.S.C. 44706; 49 U.S.C. 106(g); 49 U.S.C. 40113; 49 U.S.C. 44701 to 44706; 49 U.S.C. 44709; 49 U.S.C. 44719

Abstract: This rulemaking would require certain airport certificate holders to develop, implement, maintain, and adhere to a safety management system (SMS) for its aviation related activities. An SMS is a formalized approach to managing safety by developing an organization-wide safety policy, developing formal methods of identifying hazards, analyzing and mitigating risk, developing methods for ensuring continuous safety improvement, and creating organization-wide safety promotion strategies.

Timetable:

Action | Date | FR Cite
NPRM | 10/07/10 | 75 FR 62008
NPRM Comment Period Extended | 12/10/10 | 75 FR 76928
NPRM Comment Period End | 01/05/11
End of Extended Comment Period | 03/07/11
Second Extension of Comment Period | 03/07/11 | 76 FR 12300
End of Second Extended Comment Period | 07/05/11
Second NPRM | 07/14/16 | 81 FR 45871
Second NPRM Comment Period End | 09/12/16
Final Rule | 09/00/22

Regulatory Flexibility Analysis Required: Yes.

Agency Contact: James Schroeder, Office of Airport Safety and Standards, Department of Transportation, Federal Aviation Administration, 800 Independence Avenue SW, Washington, DC 20591, Phone: 202 267-4974, Email: james.schroeder@faa.gov.

RIN: 2120-AJ38

155. + Registration and Marking Requirements for Small Unmanned Aircraft [2120-AK82]

Legal Authority: 49 U.S.C. 106(f), 49 U.S.C. 41703, 44101 to 44106, 44110 to 44113, and 44701

Abstract: This rulemaking would provide an alternative, streamlined and simple, web-based aircraft registration process for the registration of small, unmanned aircraft, including small, unmanned aircraft operated exclusively for limited recreational operations, to facilitate compliance with the statutory requirement that all aircraft register prior to operation. It would also provide a simpler method for marking small unmanned aircraft that is more appropriate for these aircraft. This action responds to public comments received regarding the proposed registration process in the Operation and Certification of Small Unmanned Aircraft notice of proposed rulemaking, the request for information regarding unmanned aircraft system registration, and the recommendations from the Unmanned Aircraft System Registration Task Force.

Timetable:

Action | Date | FR Cite
Interim Final Rule | 12/16/15 | 80 FR 78593
Interim Final Rule Effective | 12/21/15 |
OMB approval of information collection | 12/21/15 | 80 FR 79255
Interim Final Rule Comment Period End | 01/15/16 |
Final Rule | 11/00/22 |

Regulatory Flexibility Analysis Required: Yes.

Agency Contact: Bonnie Lefko, Department of Transportation, Federal Aviation Administration, 6500 S MacArthur Boulevard, Registry Building 26, Room 118, Oklahoma City, OK 73169, Phone: 405 954-7461, Email: bonnie.lefko@faa.gov.

RIN: 2120-AK82

DEPARTMENT OF TRANSPORTATION (DOT)

Federal Aviation Administration (FAA)

Long-Term Actions

156. + Regulation of Flight Operations Conducted by Alaska Guide Pilots [2120-AJ78]

Legal Authority: 49 U.S.C. 106(g); 49 U.S.C. 1153; 49 U.S.C. 1155; 49 U.S.C. 40101 to 40103; 49 U.S.C. 40113; 49 U.S.C. 40120; 49 U.S.C. 44101; 49 U.S.C. 44105 to 44016; 49 U.S.C. 44111; 49 U.S.C. 44701 to 44717; 49 U.S.C. 44722; 49 U.S.C. 44901; 49 U.S.C. 44903 to 44904; 49 U.S.C. 44906; 49 U.S.C. 44912; 49 U.S.C. 44914; 49 U.S.C. 44936; 49 U.S.C. 44938; 49 U.S.C. 46103; 49 U.S.C. 46105; 49 U.S.C. 46306; 49 U.S.C. 46315 to 46316; 49 U.S.C. 46504; 49 U.S.C. 46506 to 46507; 49 U.S.C. 47122; 49 U.S.C. 47508; 49 U.S.C. 47528 to 47531; Articles 12 and 29 of 61 Statue 1180; Pub. L. 106-181, sec. 732

Abstract: The rulemaking would establish regulations concerning Alaska guide pilot operations. The rulemaking would implement Congressional legislation and establish additional safety requirements for the conduct of these operations. The intended effect of this rulemaking is to enhance the level of safety for persons and property transported in Alaska guide pilot operations. In addition, the rulemaking would add a general provision applicable to pilots operating under the general operating and flight rules concerning falsification, reproduction, and alteration of applications, logbooks, reports, or records. This rulemaking is a statutory mandate under section 732 of the Wendell H. Ford Aviation Investment and Reform Act for the 21st Century, (Pub. L. 106-181).

Timetable: Next Action Undetermined.

Regulatory Flexibility Analysis Required: Yes.

Agency Contact: Jeff Smith, Department of Transportation, Federal Aviation Administration, 800 Independence Avenue SW, Washington, DC 20785, Phone: 202 365-3617, Email: jeffrey.smith@faa.gov.

RIN: 2120-AJ78

157. + Drug and Alcohol Testing of Certain Maintenance Provider Employees Located Outside of the United States [2120-AK09]

Legal Authority: 14 CFR; 49 U.S.C. 106(g); 49 U.S.C. 40113; 49 U.S.C. 44701; 49 U.S.C. 44702; 49 U.S.C. 44707; 49 U.S.C. 44709; 49 U.S.C. 44717

Abstract: This rulemaking would require controlled substance testing of some employees working in repair stations located outside the United States. The intended effect is to increase participation by companies outside of the United States in testing of employees who perform safety critical functions and testing standards similar to those used in the repair stations located in the United States. This action is necessary to increase the level of safety of the flying public. This rulemaking is a statutory mandate under section 308(d) of the FAA Modernization and Reform Act of 2012 (Pub. L. 112-95).

Timetable:

Action | Date | FR Cite
ANPRM | 03/17/14 | 79 FR 14621
Comment Period Extended | 05/01/14 | 79 FR 24631
ANPRM Comment Period End | 05/16/14 |
Comment Period End | 07/17/14 |
Next Action Undetermined

Regulatory Flexibility Analysis Required: Yes.

Agency Contact: Julia Brady, Program Analyst, Program Policy Branch, Department of Transportation, Federal Aviation Administration, 800 Independence Avenue SW, Washington, DC 20591, Phone: 202 267-8083, Email: julia.brady@faa.gov.

RIN: 2120-AK09

158. + Applying the Flight, Duty, and Rest Requirements to Ferry Flights That Follow Commuter or On-Demand Operations (FAA Reauthorization) [2120-AK26]

Legal Authority: 49 U.S.C. 106(f); 49 U.S.C. 106(g); 49 U.S.C. 1153; 49 U.S.C. 40101; 49 U.S.C. 40102; 49 U.S.C. 40103; 49 U.S.C. 40113; 49 U.S.C. 41706; 49 U.S.C. 44105; 49 U.S.C. 44106; 49 U.S.C. 44111; 49 U.S.C. 44701 to 44717; 49 U.S.C. 44722; 49 U.S.C. 44901; 49 U.S.C. 44903; 49 U.S.C. 44904; 49 U.S.C. 44906; 49 U.S.C. 44912; 49 U.S.C. 44914; 49 U.S.C. 44936; 49 U.S.C. 44938; 49 U.S.C. 45101 to 45105; 49 U.S.C. 46103

Abstract: This rulemaking would require a flightcrew member who is employed by an air carrier conducting operations under part 135, and who accepts an additional assignment for flying under part 91 from the air carrier or from any other air carrier conducting operations under part 121 or 135, to apply the period of the additional assignment toward any limitation applicable to the flightcrew member relating to duty periods or flight times under part 135.

Timetable: Next Action Undetermined.

Regulatory Flexibility Analysis Required: Yes.

Agency Contact: Chester Piolunek, Department of Transportation, Federal Aviation Administration, 800 Independence Avenue SW, Washington, DC 20591, Phone: 202 267-3711, Email: chester.piolunek@faa.gov.

RIN: 2120-AK26

159. + Aircraft Registration and Airmen Certification Fees [2120-AK37]

Legal Authority: 31 U.S.C. 9701; 4 U.S.C. 1830; 49 U.S.C. 106(f); 49 U.S.C. 106(g); 49 U.S.C. 106(l)(6); 49 U.S.C. 40104; 49 U.S.C. 40105; 49 U.S.C. 40109; 49 U.S.C. 40113; 49 U.S.C. 40114; 49 U.S.C. 44101 to 44108; 49 U.S.C. 44110 to 44113; 49 U.S.C. 44701 to 44704; 49 U.S.C. 44707; 49 U.S.C. 44709 to 44711; 49 U.S.C. 44713; 49 U.S.C. 45102; 49 U.S.C. 45103; 49 U.S.C. 45301; 49 U.S.C. 45302; 49 U.S.C. 45305; 49 U.S.C. 46104; 49 U.S.C. 46301; Pub. L. 108-297, 118 Stat. 1095

Abstract: This rulemaking would establish fees for airman certificates, medical certificates, and provision of legal opinions pertaining to aircraft registration or recordation. This rulemaking also would revise existing fees for aircraft registration, recording of security interests in aircraft or aircraft parts, and replacement of an airman certificate. This rulemaking addresses provisions of the FAA Modernization and Reform Act of 2012. This rulemaking is intended to recover the estimated costs of the various services and activities for which fees would be established or revised.

Timetable:

Action | Date | FR Cite
NPRM | 06/00/23 |

Regulatory Flexibility Analysis Required: Yes.

Agency Contact: Isra Raza, Department of Transportation, Federal Aviation Administration, 800 Independence Avenue SW, Washington, DC 20591, Phone: 202 267-8994, Email: isra.raza@faa.gov.

RIN: 2120-AK37

160. + Helicopter Air Ambulance Pilot Training and Operational Requirements (HAA II) (FAA Reauthorization) [2120-AK57]

Legal Authority: 49 U.S.C. 106(f); 49 U.S.C. 106(g); 49 U.S.C. 40113; 49 U.S.C. 41706; 49 U.S.C. 44701; 49 U.S.C. 44702; 49 U.S.C. 44705; 49 U.S.C. 44709; 49 U.S.C. 44711 to 44713; 49 U.S.C. 44715 to 44717; 49 U.S.C. 44722; 49 U.S.C. 44730; 49 U.S.C. 45101 to 45105

Abstract: This rulemaking would develop training requirements for crew resource management, flight risk evaluation, and operational control of the pilot in command, as well as to develop standards for the use of flight simulation training devices and line-oriented flight training. Additionally, it would establish requirements for the use of safety equipment for flight crewmembers and flight nurses. These changes will aide in the increase in aviation safety and increase survivability in the event of an accident. Without these changes, the Helicopter Air Ambulance industry may continue to see the unacceptable high rate of aircraft accidents. This rulemaking is a statutory mandate under section 306(e) of the FAA Modernization and Reform Act of 2012 (Pub. L. 112-95).

Timetable: Next Action Undetermined.

Regulatory Flexibility Analysis Required: Yes.

Agency Contact: Chris Holliday, Department of Transportation, Federal Aviation Administration, 800 Independence Avenue SW, Washington, DC 20591, Phone: 202 267-4552, Email: chris.holliday@faa.gov.

RIN: 2120-AK57

BILLING CODE 4910-13-P

DEPARTMENT OF TRANSPORTATION (DOT)

Federal Motor Carrier Safety Administration (FMCSA)

Proposed Rule Stage

161. • Self-Insurance Program Cost Recovery (Section 610 Review) [2126-AC58]

Legal Authority: 31 U.S.C. 9701, 49 U.S.C. 13906(d); 49 U.S.C. 13908(d)

Abstract: FMCSA will propose to amend fees collected for the processing of new self-insurance applications and add new fees for ongoing monitoring of carrier compliance with the self-insurance program requirements. Application fees will be directed to FMCSA's Licensing and Insurance (L&I) Account while monitoring fees must be sent to the Treasury. This rulemaking will amend 49 CFR 360.3T/360.3 to ensure that the limited number of primarily large motor carriers that benefit from the program bear a proportionate cost of participating in the program. FMCSA may also need to amend 49 CFR 360.5T/360.5 to reflect any specific updates to the user fee methodology that are required by this rulemaking.

Timetable:

Action | Date | FR Cite
NPRM | 04/00/23 |

Regulatory Flexibility Analysis Required: No.

Agency Contact: Kenneth Riddle, Office Director, Department of Transportation, Federal Motor Carrier Safety Administration, 1200 New Jersey Avenue SE, W65-308, Washington, DC 20590, Phone: 202 366-9616, Email: kenneth.riddle@dot.gov.

RIN: 2126-AC58

DEPARTMENT OF TRANSPORTATION (DOT)

Federal Motor Carrier Safety Administration (FMCSA)

Long-Term Actions

162. + Safety Monitoring System and Compliance Initiative for Mexico-Domiciled Motor Carriers operating in the United States [2126-AA35]

Legal Authority: Pub. L. 107-87, sec. 350; 49 U.S.C. 113; 49 U.S.C. 31136; 49 U.S.C. 31144; 49 U.S.C. 31502; 49 U.S.C. 504; 49 U.S.C. 5113; 49 U.S.C. 521(b)(5)(A)

Abstract: This rule would implement a safety monitoring system and compliance initiative designed to evaluate the continuing safety fitness of all Mexico-domiciled carriers within 18 months after receiving a provisional Certificate of Registration or provisional authority to operate in the United States. It also would establish suspension and revocation procedures for provisional Certificates of Registration and operating authority, and incorporate criteria to be used by FMCSA in evaluating whether Mexico-domiciled carriers exercise basic safety management controls. The interim rule included requirements that were not proposed in the NPRM but which are necessary to comply with the FY-2002 DOT Appropriations Act. On January 16, 2003, the Ninth Circuit Court of Appeals remanded this rule, along with two other NAFTA-related rules, to the agency, requiring a full environmental impact statement and an analysis required by the Clean Air Act. On June 7, 2004, the Supreme Court reversed the Ninth Circuit and remanded the case, holding that FMCSA is not required to prepare the environmental documents. FMCSA originally planned to publish a final rule by November 28, 2003.

Timetable:

Action | Date | FR Cite
NPRM | 05/03/01 | 66 FR 22415
NPRM Comment Period End | 07/02/01 |
Interim Final Rule | 03/19/02 | 67 FR 12758
Interim Final Rule Comment Period End | 04/18/02 |
Interim Final Rule Effective | 05/03/02 |
Notice of Intent to Prepare an EIS | 08/26/03 | 68 FR 51322
EIS Public Scoping Meetings | 10/08/03 | 68 FR 58162
Next Action Undetermined

Regulatory Flexibility Analysis Required: Yes.

Agency Contact: Sarah Stella, Department of Transportation, Federal Motor Carrier Safety Administration, 1200 New Jersey Avenue SE, Washington, DC 20590, Phone: 202 493-0192, Email: sarah.stella@dot.gov.

RIN: 2126-AA35

BILLING CODE 4910-EX-P

DEPARTMENT OF TRANSPORTATION (DOT)

Federal Railroad Administration (FRA)

Proposed Rule Stage

163. + Train Crew Staffing [2130-AC88]

Legal Authority: 49 U.S.C. 20103

Abstract: This rulemaking would address the potential safety impact of one-person train operations, including appropriate measures to mitigate an accident's impact and severity, and the patchwork of State laws concerning minimum crew staffing requirements. This rulemaking would address the issue of minimum requirements for the size of different train crew staffs, depending on the type of operations.

Timetable:

Action | Date | FR Cite
NPRM | 06/00/22 |

Regulatory Flexibility Analysis Required: Yes.

Agency Contact: Amanda Maizel, Attorney Adviser, Department of Transportation, Federal Railroad Administration, 1200 New Jersey Avenue SE, Washington, DC 20590, Phone: 202 493-8014, Email: amanda.maizel@dot.gov.

RIN: 2130-AC88

BILLING CODE 4910-06-P

DEPARTMENT OF TRANSPORTATION (DOT)

Saint Lawrence Seaway Development Corporation (SLSDC)

Final Rule Stage

164. Seaway Regulations and Rules: Periodic Update, Various Categories (Rulemaking Resulting From a Section 610 Review) [2135-AA51]

Legal Authority: 33 U.S.C. 981 et seq.

Abstract: The Great Lakes St. Lawrence Seaway Development Corporation (GLS) and the St. Lawrence Seaway Management Corporation (SLSMC) of Canada, under international agreement, jointly publish and presently administer the St. Lawrence Seaway Regulations and Rules (Practices and Procedures in Canada) in their respective jurisdictions. Under agreement with the SLSMC, the GLS is amending the joint regulations by updating the Regulations and Rules in various categories.

Timetable:

Action | Date | FR Cite
Final Rule | 06/00/22 |

Regulatory Flexibility Analysis Required: No.

Agency Contact: Michal Chwedczuk, Department of Transportation, Saint Lawrence Seaway Development Corporation, 1200 New Jersey Avenue SE, Washington, DC 20590, Phone: 202 366-0091, Email: michal.chwedczuk@dot.gov.

RIN: 2135-AA51

165. Tariff of Tolls (Rulemaking Resulting From a Section 610 Review) [2135-AA52]

Legal Authority: 33 U.S.C. 981 et seq.

Abstract: The Great Lakes St. Lawrence Seaway Development Corporation (GLS) and the St. Lawrence Seaway Management Corporation (SLSMC) of Canada, under international agreement, jointly publish and presently administer the St. Lawrence Seaway Tariff of Tolls in their respective jurisdictions. The Tariff sets forth the level of tolls assessed on all commodities and vessels transiting the facilities operated by the GLS and the SLSMC.

Timetable:

Action | Date | FR Cite
Final Rule | 06/00/22 |

Regulatory Flexibility Analysis Required: No.

Agency Contact: Michal Chwedczuk, Department of Transportation, Saint Lawrence Seaway Development Corporation, 1200 New Jersey Avenue SE, Washington, DC 20590, Phone: 202 366-0091, Email: michal.chwedczuk@dot.gov.

RIN: 2135-AA52

BILLING CODE 4910-61-P

DEPARTMENT OF TRANSPORTATION (DOT)

Pipeline and Hazardous Materials Safety Administration (PHMSA)

Proposed Rule Stage

166. + Pipeline Safety: Gas Pipeline Leak Detection and Repair [2137-AF51]

Legal Authority: 49 U.S.C. 60101 et seq.

Abstract: This rulemaking would amend the pipeline safety regulations to enhance requirements for detecting and repairing leaks on new and existing natural gas distribution, gas transmission, and gas gathering pipelines. The proposed rule is necessary to respond to a mandate from section 113 of the Protecting our Infrastructure of Pipelines and Enhancing Safety Act of 2020.

Timetable:

Action | Date | FR Cite
NPRM | 10/00/22 |

Regulatory Flexibility Analysis Required: Yes.

Agency Contact: Sayler Palabrica, Department of Transportation, Pipeline and Hazardous Materials Safety Administration, 1200 New Jersey Avenue SE, District of Columbia, DC 20590, Phone: 202 366-0559, Email: sayler.palabrica@dot.gov.

RIN: 2137-AF51

167. + Pipeline Safety: Pipeline Operational Status [2137-AF52]

Legal Authority: 49 U.S.C. 60101 et seq.

Abstract: This rulemaking would amend the pipeline safety regulations to define an idled operational status for natural gas and hazardous liquid pipelines that are temporarily removed from service, set operations and maintenance requirements for idled pipelines, and establish inspection requirements for idled pipelines that are returned to service. The proposed rule is necessary to respond to a mandate from the Protecting our Infrastructure of Pipelines and Enhancing Safety Act of 2020.

Timetable:

Action | Date | FR Cite
NPRM | 04/00/23 |

Regulatory Flexibility Analysis Required: Yes.

Agency Contact: Sayler Palabrica, Department of Transportation, Pipeline and Hazardous Materials Safety Administration, 1200 New Jersey Avenue SE, District of Columbia, DC 20590, Phone: 202 366-0559, Email: sayler.palabrica@dot.gov.

RIN: 2137-AF52

168. + Pipeline Safety: Safety of Gas Distribution Pipelines [2137-AF53]

Legal Authority: 49 U.S.C. 60101 et seq.

Abstract: This rulemaking would amend the pipeline safety regulations to enhance the safety requirements for gas distribution pipelines. The proposed rule is necessary to respond to several mandates from title II of the Protecting our Infrastructure of Pipelines and Enhancing Safety Act of 2020 (PIPES Act of 2020).

Timetable:

Action | Date | FR Cite
NPRM | 10/00/22

Regulatory Flexibility Analysis Required: Yes.

Agency Contact: Ashlin Bollacker, Technical Writer, Department of Transportation, Pipeline and Hazardous Materials Safety Administration, 1200 New Jersey Avenue SE, Washington DC, DC 20590, Phone: 202 366-4203, Email: ashlin.bollacker@dot.gov.

RIN: 2137-AF53

DEPARTMENT OF TRANSPORTATION (DOT)

Pipeline and Hazardous Materials Safety Administration (PHMSA)

Final Rule Stage

169. + Pipeline Safety: Amendments to Parts 192 and 195 To Require Valve Installation and Minimum Rupture Detection Standards [2137-AF06]

Legal Authority: 49 U.S.C. 60101 et seq.

Abstract: This rulemaking action would revise the Pipeline Safety Regulations applicable to most newly constructed and entirely replaced onshore natural gas transmission and hazardous liquid pipelines to improve rupture mitigation and shorten pipeline segment isolation times. The rulemaking action would define “notification of potential rupture” and outline certain performance standards related to rupture identification and pipeline segment isolation. This rulemaking action also would require specific valve maintenance and inspection requirements, and 9-1-1 notification requirements to help operators achieve better rupture response and mitigation.

Timetable:

Action | Date | FR Cite
NPRM | 02/06/20 | 85 FR 7162
NPRM Comment Period End | 04/06/20
Final Rule | 04/08/22 | 87 FR 20940
Final Rule Effective | 10/05/22

Regulatory Flexibility Analysis Required: Yes.

Agency Contact: Robert Jagger, Technical Writer, Department of Transportation, Pipeline and Hazardous Materials Safety Administration, 1200 New Jersey Avenue SE, Washington, DC 20590, Phone: 202 366-4595, Email: robert.jagger@dot.gov.

RIN: 2137-AF06

170. + Hazardous Materials: Enhanced Safety Provisions for Lithium Batteries Transported by Aircraft (FAA Reauthorization Act of 2018) [2137-AF20]

Legal Authority: 49 U.S.C. 44701; 49 U.S.C. 5103(b); 49 U.S.C. 5120(b)

Abstract: This rulemaking amends the Hazardous Materials Regulations (HMR) to: (1) prohibit the transport of lithium ion cells and batteries as cargo on passenger aircraft; (2) require all lithium ion cells and batteries to be shipped at not more than a 30 percent state of charge on cargo-only aircraft; and (3) limit the use of alternative provisions for small lithium cell or battery to one package per consignment. The amendments do not restrict passengers or crew members from bringing personal items or electronic devices containing lithium cells or batteries aboard aircraft, or restrict the air transport of lithium ion cells or batteries when packed with or contained in equipment. To accommodate persons in areas potentially not serviced daily by cargo aircraft, PHMSA provides a limited exception for not more than two replacement lithium cells or batteries specifically used for medical devices to be transported by passenger aircraft and at a state of charge greater than 30 percent, under certain conditions and as approved by the Associate Administrator. This rulemaking is necessary to meet the FAA Reauthorization Act of 2018, address a safety hazard, and harmonize the HMR with emergency amendments to the 2015-2016 edition of the International Civil Aviation Organization's Technical Instructions for the Safe Transport of Dangerous Goods by Air.

Timetable:

Action | Date | FR Cite
Interim Final Rule | 03/06/19 | 84 FR 8006
Interim Final Rule Effective | 03/06/19
Interim Final Rule Comment Period End | 05/06/19
Final Rule | 09/00/22

Regulatory Flexibility Analysis Required: Yes.

Agency Contact: Eugenio Cardez, Department of Transportation, Pipeline and Hazardous Materials Safety Administration, 1200 New Jersey Avenue SE, Washington, DC 20590, Phone: 202 366-9542, Email: eugenio.cardez@dot.gov.

RIN: 2137-AF20

[FR Doc. 2022-14608 Filed 8-5-22; 8:45 am]

BILLING CODE 4910-60-P